DEPARTMENT OF COMMERCE

National Oceanic and Atmospheric Administration

[I.D. 041400A]

Taking and Importing of Marine Mammals

AGENCY: National Marine Fisheries Service (NMFS), National Oceanic and Atmospheric Administration (NOAA), Commerce.

ACTION: Notice of affirmative finding; removal of embargo.

SUMMARY: The Assistant Administrator for Fisheries, NMFS, issued an affirmative finding for the Government of Mexico under the Marine Mammal Protection Act (MMPA) on April 12, 2000. This affirmative finding allows importation into the United States of yellowfin tuna and yellowfin tuna products harvested in the eastern tropical Pacific Ocean (ETP) after March 3, 1999, by Mexican-flag purse seine vessels or vessels operating under Mexican jurisdiction greater than 400 short tons (362.8 mt) carrying capacity. The affirmative finding was based on documentary evidence submitted by the Government of Mexico and obtained from the Inter-American Tropical Tuna Commission (IATTC). This finding remains in effect through March 31, 2001.

DATES: Effective April 12, 2000, through March 31, 2001.

FOR FURTHER INFORMATION CONTACT: Regional Administrator, Southwest Region, NMFS, 501 West Ocean Boulevard, Suite 4200, Long Beach, California, 90802-4213; Phone 562-980-4000; Fax 562-980-4018.

SUPPLEMENTARY INFORMATION: The MMPA, 16 U.S.C. 1361 et seq, as amended by the International Dolphin Conservation Program Act (IDCPA) (P. L. 105-42), allows the entry into the United States of yellowfin tuna harvested by purse seine vessels in the eastern tropical Pacific Ocean (ETP) under certain conditions. If requested by the harvesting nation, the Assistant Administrator for Fisheries, NOAA, will determine whether to make an affirmative finding based upon documentary evidence provided by the government of the harvesting nation, by the International Dolphin Conservation Program (IDCP), the IATTC, or the Department of State. A finding will remain valid for 1 year (April 1 through March 31) or for such other period as the Assistant Administrator for Fisheries may determine. The harvesting nation must submit an application directly to the Assistant Administrator for Fisheries for the first affirmative finding. Every 5 years, the government of the harvesting nation, must request an affirmative finding and submit the required documentary evidence directly to the Assistant Administrator for Fisheries. The Assistant Administrator may require the submission of additional supporting documentation or verification of statements made in connection with requests to allow importations. An affirmative finding applies to tuna and tuna products that were harvested in the ETP by purse seine vessels of the nation, and applies to any tuna harvested in the ETP purse seine fishery after March 3, 1999, the effective date of the IDCPA.

The affirmative finding process requires that the harvesting nation meet several conditions related to compliance with the IDCP. To issue an annual affirmative finding, NMFS must receive the following information:

1. A statement requesting an affirmative finding;

2. Evidence of membership in the IATTC;

3. Evidence that a nation is meeting its obligations to the IATTC, including financial obligations;

4. Evidence that a nation is complying with the IDCP. For example, national laws and regulations implementing the Agreement on the IDCP and information that the nation is enforcing those laws and regulations;

5. Evidence of a tuna tracking and verification program comparable to the U.S. tracking and verification regulations at 50 CFR 216.94;

6. Evidence that the national fleet dolphin mortality limits (DMLs) were not exceeded in the previous calendar;

7. Evidence that the national fleet per-stock per-year mortality limits, if they are allocated to countries, were not exceeded in the previous calendar year;

8. Authorization for the IATTC to release to the Assistant Administrator for Fisheries complete, accurate, and timely information necessary to verify and inspect Tuna Tracking Forms; and

9. Authorization for the IATTC to release to the Assistant Administrator for Fisheries information whether a nation is meeting its obligations of membership to the IATTC and whether a nation is meeting its obligations under the IDCP, including managing (not exceeding) its national fleet DMLs or its national fleet per-stock per-year mortality limits. A nation may opt to provide this information directly to NMFS on an annual basis or to authorize the IATTC to release the information to NMFS in years when NMFS will review and consider whether to issue an affirmative finding determination without an application from the harvesting nation.

An affirmative finding will be terminated, in consultation with the Secretary of State, if the Assistant Administrator for Fisheries determines that the requirements of 50 CFR 216.24(f)(9) are no longer being met or that a nation is consistently failing to take enforcement actions on violations which diminish the effectiveness of the IDCP. Every 5 years, the government of the harvesting nation, must request an affirmative finding and submit the required documentary evidence directly to the Assistant Administrator for Fisheries.

The Assistant Administrator for Fisheries reviewed the application and documentary evidence submitted by the Government of Mexico and determined that the requirements under the MMPA to receive an affirmative finding have been met for the purposes of issuing an affirmative finding for the period April 1—March 31, 2001. On April 12, 2000, after consultation with the Department of State, NMFS issued an affirmative finding that removed the embargo and allows yellowfin tuna and products derived from yellowfin tuna harvested in the ETP by Mexican-flag purse seine vessels or vessels under Mexican jurisdiction greater than 400 short tons (362.8 metric tons) carrying capacity after March 3, 1999, to be imported into the United States. In subsequent years 2001 through 2004, the Assistant Administrator will determine on an annual basis whether the Government of Mexico is meeting the requirements under section 101 (a)(2)(B) and (C) of the MMPA. NMFS will use documentary evidence provided by the IATTC and the Department of State or by the harvesting nation on an annual basis to determine whether the finding should be renewed. If necessary, documentary evidence may also be requested from the Government of Mexico to determine whether the affirmative finding criteria are being met. A new application is due by the Government of Mexico if the affirmative finding lapses or is revoked. If the affirmative finding for the Government of Mexico is renewed after NMFS's annual review in the years 2001 to 2004, the Government of Mexico must submit a new application in early 2005 for an affirmative finding to be effective for the period April 1, 2005, through March 31, 2006, and subsequent years.

Dated: April 19, 2000.
Andrew A. Rosenberg,
Deputy Assistant Administrator for Fisheries, National Marine Fisheries Service.

[FR Doc. 00-11446 Filed 5-5-00; 8:45 am]

BILLING CODE 3510-22-F